FEDERAL COMMUNICATIONS COMMISSION

47 CFR Part 73

[DA 04-1283; MB Docket No.04-42; RM-10850]

Radio Broadcasting Services; Bowling Green and Glasgow, KY

AGENCY: Federal Communications Commission.

ACTION: Final rule.

SUMMARY: This document reallots Channel 236C0 from Glasgow, Kentucky to Bowling Green, Kentucky, and modifies the license for Station WGGC to specify operation Channel 236C0 at Bowling Green, Kentucky, in response to a petition filed by Heritage Communications, Inc. See 69 FR 12296, March 16, 2004. The license for Station WGGC was previously modified to specify operation on Channel 236C0 in lieu of Channel 236C at Glasgow, Kentucky. See BMLH-19990728KA. This change is not reflected in the FM Table of Allotments. Channel 236C0 can be reallotted to Bowling Green in compliance with the Commission's minimum distance separation requirements at petitioner's presently licensed site. The coordinates for Channel 236C0 at Bowling Green are 36-54-43 and 86-11-21.

DATES: Effective July 6, 2004.

FOR FURTHER INFORMATION CONTACT: Sharon P. McDonald, Media Bureau, (202) 418-2180.

SUPPLEMENTARY INFORMATION: This is a summary of the Commission's Report and Order, MB Docket No. 04-42, adopted May 19, 2004, and released May 21, 2004. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Kentucky, is amended by removing Channel 236C at Glasgow and by adding Channel 236C0 at Bowling Green.

Federal Communications Commission.
John A. Karousos,
Assistant Chief, Audio Division, Media Bureau.

[FR Doc. 04-14116 Filed 6-21-04; 8:45 am]

BILLING CODE 6712-01-P